DEPARTMENT OF JUSTICE

Notice of Lodging of Consent Decree Under the Comprehensive Environmental Response Compensation and Liability Act

Pursuant to 28 CFR 50.7 notice is hereby given that on August 14, 2008, a proposed Consent Decree in the case United States v. William J. Roper, Sr., et al., Civil Action No. 3:00cv472-GCM, was lodged with the United States District Court for the Western District of North Carolina.

In this action, under Section 107(a)(1) and (2) of CERCLA, 42 U.S.C. 9607(a)(1) and (2), the United States sought recovery of response costs to remedy conditions in connection with the release or threatened release of hazardous substances into the environment at the North Belmont PCE Site (“the Site”), located in Belmont, Gaston County, North Carolina. A portion of the Site is comprised of the Roper Shopping Center upon which the United States had placed a Superfund Lien. The Complaint also included an in rem action under Section 107(l) of CERCLA, 42 U.S.C. 9607(l), to enforce this lien.

The proposed consent decree requires Defendants to exercise best efforts to sell the Roper Shopping Center which is currently valued at about $303,000. The United States will receive 75 percent of the sale proceeds in partial reimbursement of outstanding response costs.

The Department of Justice will receive comments relating to the proposed Consent Decree for a period of thirty (30) days from the date of this publication. Comments should be addressed to the Assistant Attorney General, Environment and Natural Resources Division, and mailed either electronically to pubcomment-ees.enrd@usdoj.gov or in hard copy to the United States Department of Justice, P.O. Box 7611, Ben Franklin Station, Washington, DC 20044-7611 and should refer to United States v. William J. Roper, Sr., et al., D.J. Ref. 90-11-3-07246.

The proposed Consent Decree may be examined at the U.S. Environmental Protection Agency, Region IV, 61 Forsythe Street, Atlanta, Georgia 30303. During the public comment period, the Consent Decree, may also be examined on the following Department of Justice Web site: http://www.usdoj.gov/enrd/Consent_Decrees.html.

A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy of the Consent Decree from the Consent Decree Library, please enclose a check in the amount of $9.75 (25 cents per page reproduction cost × 39 pages) payable to the U.S. Treasury.

Henry S. Friedman,
Assistant Section Chief, Environmental Enforcement Section.

[FR Doc. E8-19468 Filed 8-21-08; 8:45 am]

BILLING CODE 4410-15-P